SMALL BUSINESS ADMINISTRATION

[Disaster Declaration #20006 and #20007; UTAH Disaster Number UT-20000]

Administrative Declaration of a Disaster for the State of Utah

AGENCY: U.S. Small Business Administration.

ACTION: Notice.

SUMMARY: This is a notice of an Administrative declaration of a disaster for the State of Utah dated 10/02/2023.

Incident: Severe Thunderstorms and Flooding.

Incident Period: 08/03/2023 through 08/04/2023.

DATES: Issued on 10/02/2023.

Physical Loan Application Deadline Date: 12/01/2023.

Economic Injury (EIDL) Loan Application Deadline Date: 07/02/2024.

ADDRESSES: Submit completed paper loan applications to: U.S. Small Business Administration, Processing and Disbursement Center, 14925 Kingsport Road, Fort Worth, TX 76155.

FOR FURTHER INFORMATION CONTACT: Alan Escobar, Office of Disaster Recovery & Resilience, U.S. Small Business Administration, 409 3rd Street SW, Suite 6050, Washington, DC 20416, (202) 205-6734.

SUPPLEMENTARY INFORMATION: Notice is hereby given that as a result of the Administrator's disaster declaration, applications for disaster loans may be submitted online using the MySBA Loan Portal https://lending.sba.gov or other locally announced locations. Please contact the SBA disaster assistance customer service center by email at disastercustomerservice@sba.gov or by phone at 1-800-659-2955 to request a paper loan application.

The following areas have been determined to be adversely affected by the disaster:

Primary Counties: Salt Lake.

Contiguous Counties:

Utah: Davis, Morgan, Summit, Tooele, Utah, Wasatch.

The Interest Rates are:

| Percent
For Physical Damage:
Homeowners with Credit Available Elsewhere | 5.000
Homeowners without Credit Available Elsewhere | 2.500
Businesses with Credit Available Elsewhere | 8.000
Businesses without Credit Available Elsewhere | 4.000
Non-Profit Organizations with Credit Available Elsewhere | 2.375
Non-Profit Organizations without Credit Available Elsewhere | 2.375
For Economic Injury:
Business and Small Agricultural Cooperatives without Credit Available Elsewhere | 4.000
Non-Profit Organizations without Credit Available Elsewhere | 2.375

The number assigned to this disaster for physical damage is 200066 and for economic injury is 200070.

The State which received an EIDL Declaration is Utah.

(Catalog of Federal Domestic Assistance Number 59008)

Isabella Guzman,
Administrator.

[FR Doc. 2023-22215 Filed 10-4-23; 8:45 am]

BILLING CODE 8026-09-P